DEPARTMENT OF COMMERCE

National Oceanic and Atmospheric Administration

15 CFR Part 902

50 CFR Parts 660 and 665

[Docket No. 060327086-6086-01; I.D. 032306A]

RIN 0648-AU21

NOAA Information Collection Requirements Under the Paperwork Reduction Act: OMB Control Numbers; Fisheries off West Coast States; Fisheries in the Western Pacific

AGENCY: National Marine Fisheries Service (NMFS), National Oceanic and Atmospheric Administration (NOAA), Commerce.

ACTION: Final rule.

SUMMARY: NMFS reorganizes existing fishery regulations by creating a new part for western Pacific regulations. This rule organizes the regulations into a logical and cohesive order; it does not make substantive changes to existing fishery regulations. This rule also amends references to the Paperwork Reduction Act (PRA) information collection requirements to reflect the reorganization. The purpose of this rule is to make the regulations better organized and easier for the public to use.

DATES: Effective April 10, 2006.

FOR FURTHER INFORMATION CONTACT: Robert Harman, NMFS Pacific Islands Region, 808-944-2271.

SUPPLEMENTARY INFORMATION:

Electronic Access

This Federal Register document is accessible via the Internet at http://www.archives.gov/federal-register/publications.

Background

In 1996, NMFS published a final rule (61 FR 34570, July 2, 1996) that consolidated six parts of the Code of Federal Regulations (CFR) into one new CFR part (50 CFR part 660). Among the actions in that rule was consolidation of regulations that implemented fishery conservation and management measures for fisheries operating in the exclusive economic zone (EEZ) off the west coast and in the western Pacific. The 1996 action reorganized the rules into a more logical and cohesive order, removed duplicative and outdated provisions, and made editorial changes for readability, clarity and uniformity in the regulatory language. The current action makes the regulations even better organized, and easier for the public to use.

Since the 1996 reorganization, there have been significant changes in the fisheries managed under 50 CFR part 660 and in the associated fishery regulations. New subparts have been added that cover west coast highly migratory species fisheries and western Pacific coral reef fisheries. Subparts that apply specifically to fisheries in the western Pacific are currently intermingled with subparts that apply to fisheries off the west coast, and several subparts have been changed substantially.

In 2004, NMFS established a new Pacific Islands Region and Pacific Islands Regional Office with responsibility for administering NMFS conservation and management programs in the western Pacific. Those responsibilities are no longer in the purview of the NMFS Southwest Region. Thus, the realignment of regulations for fisheries in the western Pacific is consistent with the new regional office that is responsible for their administration.

In addition to the above reasons for regulatory reorganization, the Western Pacific Fishery Management Council is in the process of creating fishery ecosystem plans that will apply ecosystem management principles to fisheries, consistent with the Magnuson-Stevens Fishery Conservation and Management Act. Those plans will shift management from a fishery or species basis (e.g., pelagic species, crustaceans, etc.) to one based on geographical areas (e.g., American Samoa, Hawaii, etc.). The move to ecosystems management will require reorganization of the regulations for western Pacific fisheries into geographic areas; such a reorganization will be facilitated by the current action.

Reorganization of Regulations for the Western Pacific

This action redesignates those regulations in 50 CFR part 660 that cover fisheries in the western Pacific as regulations in a new 50 CFR part 665. Fisheries for pelagic species, crustaceans, bottomfish and seamount groundfish, precious corals and coral reef ecosystems in the western Pacific are managed by these regulations. After the reorganization, the regulations remaining in 50 CFR part 660 will include those fisheries that are managed by NMFS off the west coast. The restructuring allows interested fishermen, managers and the general public to readily access the regulations.

No substantive changes are being made to the regulations, but several administrative titles and telephone numbers are updated. In 50 CFR part 660, subpart A (general provisions) is not redesignated, but is edited to apply solely to west coast fisheries, and a new 50 CFR part 665, subpart A, is created for western Pacific fisheries.

The following table lists the redesignation of the subparts and sections:

Old section | New section
| Subpart A—General
| § 665.1 Purpose and scope.
| § 665.2 Relation to other laws.
| § 665.3 Reporting and recordkeeping.
Subpart B—Western Pacific Fisheries—General | Subpart B—Western Pacific Fisheries—General
§ 660.11 Purpose and scope | § 665.11 Purpose and scope.
§ 660.12 Definitions | § 665.12 Definitions.
§ 660.13 Permits and fees | § 665.13 Permits and fees.
§ 660.14 Reporting and recordkeeping | § 665.14 Reporting and recordkeeping.
§ 660.15 Prohibitions | § 665.15 Prohibitions.
§ 660.16 Vessel identification | § 665.16 Vessel identification.
§ 660.17 Experimental fishing | § 665.17 Experimental fishing.
§ 660.18 Area restrictions | § 665.18 Area restrictions.
Subpart C—Western Pacific Pelagic Fisheries | Subpart C—Western Pacific Pelagic Fisheries
§ 660.21 Permits | § 665.21 Permits.
§ 660.22 Prohibitions | § 665.22 Prohibitions.
§ 660.23 Notifications | § 665.23 Notifications.
§ 660.24 Gear identification | § 665.24 Gear identification.
§ 660.25 Vessel monitoring system | § 665.25 Vessel monitoring system.
§ 660.26 Longline fishing prohibited area management | § 665.26 Longline fishing prohibited area management.
§ 660.27 Exemptions for longline fishing prohibited areas; procedures | § 665.27 Exemptions for longline fishing prohibited areas; procedures.
§ 660.28 Conditions for at-sea observer coverage | § 665.28 Conditions for at-sea observer coverage.
§ 660.29 Port privileges and transiting for unpermitted U.S. longline vessels | § 665.29 Port privileges and transiting for unpermitted U.S. longline vessels.
§ 660.30 Prohibition of drift gillnetting | § 665.30 Prohibition of drift gillnetting.
§ 660.31 Framework adjustments to management measures | § 665.31 Framework adjustments to management measures.
§ 660.32 Sea turtle take mitigation measures | § 665.32 Sea turtle take mitigation measures.
§ 660.33 Western Pacific longline fishing restrictions | § 665.33 Western Pacific longline fishing restrictions.
§ 660.34 Protected species workshop | § 665.34 Protected species workshop.
§ 660.35 Pelagic longline seabird mitigation measures | § 665.35 Pelagic longline seabird mitigation measures.
§ 660.36 American Samoa longline limited entry program | § 665.36 American Samoa longline limited entry program.
§ 660.37 American Samoa pelagic fishery area management | § 665.37 American Samoa pelagic fishery area management.
§ 660.38 Exemptions for American Samoa large vessel prohibited areas | § 665.38 Exemptions for American Samoa large vessel prohibited areas.
Subpart D—Western Pacific Crustacean Fisheries | Subpart D—Western Pacific Crustacean Fisheries
§ 660.41 Permits | § 665.41 Permits.
§ 660.42 Prohibitions | § 665.42 Prohibitions.
§ 660.43 Notifications | § 665.43 Notifications.
§ 660.44 Lobster size and condition restrictions—Permit Area 2 | § 665.44 Lobster size and condition restrictions—Permit Area 2.
§ 660.45 Closed seasons | § 665.45 Closed seasons.
§ 660.46 Closed areas | § 665.46 Closed areas.
§ 660.47 Gear identification | § 665.47 Gear identification.
§ 660.48 Gear restrictions | § 665.48 Gear restrictions.
§ 660.49 At-sea observer coverage | § 665.49 At-sea observer coverage.
§ 660.50 Harvest limitation program | § 665.50 Harvest limitation program.
§ 660.51 Monk seal protective measures | § 665.51 Monk seal protective measures.
§ 660.52 Monk seal emergency protective measures | § 665.52 Monk seal emergency protective measures.
§ 660.53 Framework procedures | § 665.53 Framework procedures.
§ 660.54 Five-year review | § 665.54 Five-year review.
Subpart E—Bottomfish and Seamount Groundfish Fisheries | Subpart E—Bottomfish and Seamount Groundfish Fisheries
§ 660.61 Permits | § 665.61 Permits.
§ 660.62 Prohibitions | § 665.62 Prohibitions.
§ 660.63 Notification | § 665.63 Notification.
§ 660.64 Gear restrictions | § 665.64 Gear restrictions.
§ 660.65 At-sea observer coverage | § 665.65 At-sea observer coverage.
§ 660.66 Protected species conservation | § 665.66 Protected species conservation.
§ 660.67 Framework for regulatory adjustments | § 665.67 Framework for regulatory adjustments.
§ 660.68 Fishing moratorium on Hancock Seamount | § 665.68 Fishing moratorium on Hancock Seamount.
§ 660.69 Management subareas | § 665.69 Management subareas.
Subpart F—Precious Corals Fisheries | Subpart F—Precious Corals Fisheries
§ 660.81 Permits | § 665.81 Permits.
§ 660.82 Prohibitions | § 665.82 Prohibitions.
§ 660.83 Seasons | § 665.83 Seasons.
§ 660.84 Quotas | § 665.84 Quotas.
§ 660.85 Closures | § 665.85 Closures.
§ 660.86 Size restrictions | § 665.86 Size restrictions.
§ 660.87 Area restrictions | § 665.87 Area restrictions.
§ 660.88 Gear restrictions | § 665.88 Gear restrictions.
§ 660.89 Framework procedures | § 665.89 Framework procedures.
Subpart J—Western Pacific Coral Reef Ecosystem Fisheries | Subpart G—Western Pacific Coral Reef Ecosystem Fisheries
§ 660.601 Relation to other laws | § 665.601 Relation to other laws.
§ 660.602 Permits and fees | § 665.602 Permits and fees.
§ 660.603 Prohibitions | § 665.603 Prohibitions.
§ 660.604 Notifications | § 665.604 Notifications.
§ 660.605 Allowable gear and gear restrictions | § 665.605 Allowable gear and gear restrictions.
§ 660.606 Gear identification | § 665.606 Gear identification.
§ 660.607 Framework for regulatory adjustments | § 665.607 Framework for regulatory adjustments.
§ 660.608 Regulatory area | § 665.608 Regulatory area.
§ 660.609 Annual reports | § 665.609 Annual reports.

Revisions to Paperwork Reduction Act (PRA) References

Section 3507 of the PRA requires that agencies inventory and display a current control number assigned by the Director, Office of Management and Budget (OMB), for each agency information collection, and 15 CFR 902.1(b) identifies the location of NOAA regulations for which OMB approvals have been issued. Because this final rule codifies many recordkeeping and reporting requirements, 15 CFR 902.1(b) is revised to reference correctly the new sections resulting from the reorganization.

The following table lists the redesignation of the NOAA PRA approvals for regulatory requirements.

Old section | New section | OMB control No.
§ 660.13 Permits and Fees | § 665.13 Permits and Fees | 0648-0490
§ 660.14 Reporting and recordkeeping | § 665.14 Reporting and recordkeeping | 0648-0214
§ 660.16 Vessel identification | § 665.16 Vessel identification | 0648-0360
§ 660.17 Experimental fishing | § 665.17 Experimental fishing | 0648-0214 and 0648-490
§ 660.21(k) Permits, Hawaii longline limited access permit | § 665.21(k) Permits, Hawaii longline limited access permit | 0648-0490
§ 660.23 Notifications | § 665.23 Notifications | 0648-0214
§ 660.24 Gear identification | § 665.24 Gear identification | 0648-0360
§ 660.25 Vessel monitoring system | § 665.25 Vessel monitoring system | 0648-0441
§ 660.27 Exemptions for longline fishing prohibited areas; procedures | § 665.27 Exemptions for longline fishing prohibited areas; procedures | 0648-0490
§ 660.28 Conditions for at-sea observer coverage | § 665.28 Conditions for at-sea observer coverage | 0648-0214
§ 660.35 Pelagic longline seabird mitigation measures | § 665.35 Pelagic longline seabird mitigation measures | 0648-0456
§ 660.41 Permits | § 665.41 Permits | 0648-0490
§ 660.43 Notifications | § 665.43 Notifications | 0648-0214
§ 660.48 Gear restrictions | § 665.48 Gear restrictions | 0648-0360
§ 660.61 Permits | § 665.61 Permits | 0648-0490
§ 660.63 Notification | § 665.61 Notification | 0648-0214
§ 660.65 At-sea observer coverage | § 665.65 At-sea observer coverage | 0648-0214
§ 660.81 Permits | § 665.81 Permits | 0648-0490
§ 660.602 Permits and fees | § 665.602 Permits and fees | 0648-0463
§ 660.604 Notifications | § 665.604 Notifications | 0648-0462
§ 660.606 Gear identification | § 665.606 Gear identification | 0648-0360

Classification

This action has been determined to be not significant for purposes of Executive Order 12866.

Notwithstanding any other provision of law, no person is required to respond to, nor shall a person be subject to a penalty for failure to comply with, a collection of information subject to the requirements of the PRA unless that collection displays a currently valid OMB control number.

The following collection of information requirements have already been approved by OMB for U.S. fishing activities:

1. Approved under 0648-0214. (1) Pacific Islands Region (PIR) logbook family of forms estimated at 5 minutes (min) per reporting action; and (2) pre-trip and post-landing notifications estimated at 5 min per reporting action; (3) experimental fishing reports estimated at 4 hours (hr) per reporting action; (4) sales and transshipment reports estimated at 5 min per reporting action; (5) report on gear left at sea estimated at 5 min per reporting action; (6) claims for reimbursement for lost fishing time estimated at 4 hr per claim; (7) request for pelagics area closure exemption estimated at 1 hr per request; and (8) observer placement meetings estimated at 1 hr per reporting action (§§ 665.14, 665.17, 665.23, 665.28, 665.43, 665.63, and 665.65).

2. Approved under 0648-0360. PIR gear identification estimated at 0.5 hr per reporting action (§§ 665.16, 665.24, 665.48, and 665.606).

3. Approved under 0648-0441. PIR vessel monitoring system, (1) installation, estimated at 4 hr per reporting action; (2) repair and maintenance, estimated at 2 hr per reporting action; and (3) hourly automated position reports, estimated at 24 sec per day (§ 665.25).

4. Approved under 0648-0456. PIR seabird interaction reporting, (1) at-sea notification, estimated at 1 hr per reporting action; (2) reporting on recovery data form, estimated at 1 hr per reporting action; and (3) specimen tagging, estimated at 0.5 hr per reporting action (§ 665.35).

5. Approved under 0648-0462. PIR coral reef logbook reporting, (1) at-sea notification, estimated at 3 min per reporting action; (2) logbook reporting, estimated at 0.5 hr per reporting action; and (3) transshipment reports, estimated at 15 min per reporting action (§ 665.604).

6. Approved under 0648-0463. PIR coral reef special permit, (1) application, estimated at 2 hr per application; and (2) special permit appeals, estimated at 3 hr per appeal (§ 665.602).

7. Approved under 0648-0490. (1) PIR permit family of forms estimated at 0.5 hr per permit action; (2) experimental fishing permits, estimated at 2 hr per application (§§ 665.13, 665.17, and 665.21(k)); and (3) appeals from permit actions estimated at 2 hr per permit appeal (§§ 665.13, 665.21(k), 665.27, 665.41, 665.61, and 665.81).

Pursuant to 5 U.S.C. 553(b)(B), the Assistant Administrator for Fisheries, NOAA, (AA) finds good cause to waive prior notice and opportunity for public comment, as such notice and comment would be unnecessary. These procedures are unnecessary because no substantive changes are being made pursuant to this final rule. The only action currently being taken is to reorganize the western Pacific regulations into a new part, and to change the cross references to the previous part so as to reflect the reorganization. For the aforementioned reasons, the AA also finds good cause to waive the 30-day delay in the effectiveness of this action under 5 U.S.C. 553(d)(3).

List of Subjects

15 CFR Part 902

Reporting and recordkeeping requirements.

50 CFR Part 660

Administrative practice and procedure, Fisheries, Fishing, Indians, Reporting and recordkeeping requirements.

50 CFR Part 665

Administrative practice and procedure, American Samoa, Fisheries, Fishing, Guam, Hawaii, Hawaiian natives, Northern Mariana Islands, Pacific Remote Island Areas, Reporting and recordkeeping requirements.

Dated: March 31, 2006.
James W. Balsiger,
Acting Deputy Assistant Administrator for Regulatory Programs, National Marine Fisheries Service.

For the reasons set out in the preamble, 15 CFR chapter IX and 50 CFR chapter VI are amended as follows:

15 CFR CHAPTER IX

PART 902—NOAA INFORMATION COLLECTION REQUIREMENTS UNDER THE PAPERWORK REDUCTION ACT: OMB CONTROL NUMBERS

1. The authority citation for part 902 continues to read as follows:

Authority: 44 U.S.C. 3501 et seq.

2A. The table in “902.1(b) is amended by removing the entries and corresponding OMB numbers under 50 CFR for §§ 660.13, 660.14, 660.16, 660.17, 660.21(k), 660.23, 660.24, 660.25, 660.27, 660.28, 660.43, and 660.48.

B. The table in § 902.1(b) is amended by adding new entries and corresponding OMB numbers under 50 CFR to read as follows:

§ 902.1 OMB control numbers assigned pursuant to the Paperwork Reduction Act.

* * * * *

(b) Display.

* * * * *

CFR part or section where the information collection requirement is located | Current OMB control number (all numbers begin with 0648-)
* * * * *
50 CFR
* * * * *
§ 665.13 | -0490
§ 665.14 | -0214
§ 665.16 | -0360
§ 665.17 | -0214 and -0490
§ 665.21(k) | -0490
§ 665.23 | -0214
§ 665.24 | -0360
§ 665.25 | -0441
§ 665.27 | -0490
§ 665.28 | -0214
§ 665.35 | -0456
§ 665.41 | -0490
§ 665.43 | -0214
§ 665.48 | -0360
§ 665.61 | -0490
§ 665.63 | -0214
§ 665.65 | -0214
§ 665.81 | -0490
§ 665.602 | -0463
§ 665.604 | -0462
§ 665.606 | -0360

* * * * *

50 CFR CHAPTER VI

3. Add part 665 to read as follows:

PART 665—FISHERIES IN THE WESTERN PACIFIC

Subpart A—General
Sec.
665.1 Purpose and scope.
665.2 Relation to other laws.
665.3 Reporting and recordkeeping.

Authority: 16 U.S.C. 1801 et seq.

Subpart A—General

§ 665.1 Purpose and scope.

(a) The regulations in this part govern fishing for Western Pacific fishery management unit species by vessels of the United States that operate or are based inside the outer boundary of the EEZ off Western Pacific States.

(b) General regulations governing fishing by all vessels of the United States and by fishing vessels other than vessels of the United States are contained in part 600 of this chapter.

(c) Regulations governing the harvest, possession, landing, purchase, and sale of shark fins are found at part 600, subpart N of this chapter.

§ 665.2 Relation to other laws.

NMFS recognizes that any state law pertaining to vessels registered under the laws of that state while operating in the fisheries regulated under this part, and that is consistent with this part and the FMPs implemented by this part, shall continue in effect with respect to fishing activities regulated under this part.

§ 665.3 Reporting and recordkeeping.

Except for fisheries subject to subparts D and F of this part, any person who is required to do so by applicable state law or regulation must make and/or file all reports of management unit species landings containing all data and in the exact manner required by applicable state law or regulation.

PART 660—FISHERIES OFF WEST COAST STATES

4. The authority citation for 50 CFR part 660 continues to read as follows:

Authority: 16 U.S.C. 1801, et seq.

5. Revise the part heading for part 660 to read as set out above.

6. Redesignate subpart B, §§ 660.11 through 660.18 as subpart B, §§ 665.11 through 665.18, and redesignate subpart C, §§ 660.21 through 660.38, as subpart C, §§ 665.21 through 665.38, and redesignate subpart D, §§ 660.41 through 660.54, as subpart D, §§ 665.41 through 665.54, and redesignate subpart E, §§ 660.61 through 660.69, as subpart E, §§ 665.61 through 665.69, and redesignate subpart F, §§ 660.81 through 660.89, as subpart F, §§ 665.81 through 665.89, and redesignate subpart J, §§ 660.601 through 660.609, as subpart G, §§ 665.601 through 665.609, as follows:

Old subpart and section | New subpart and section
Subpart B | Subpart B
§ 660.11 | § 665.11
§ 660.12 | § 665.12
§ 660.13 | § 665.13
§ 660.14 | § 665.14
§ 660.15 | § 665.15
§ 660.16 | § 665.16
§ 660.17 | § 665.17
§ 660.18 | § 665.18
Subpart C | Subpart C
§ 660.21 | § 665.21
§ 660.22 | § 665.22
§ 660.23 | § 665.23
§ 660.24 | § 665.24
§ 660.25 | § 665.25
§ 660.26 | § 665.26
§ 660.27 | § 665.27
§ 660.28 | § 665.28
§ 660.29 | § 665.29
§ 660.30 | § 665.30
§ 660.31 | § 665.31
§ 660.32 | § 665.32
§ 660.33 | § 665.33
§ 660.34 | § 665.34
§ 660.35 | § 665.35
§ 660.36 | § 665.36
§ 660.37 | § 665.37
§ 660.38 | § 665.38
Subpart D | Subpart D
§ 660.41 | § 665.41
§ 660.42 | § 665.42
§ 660.43 | § 665.43
§ 660.44 | § 665.44
§ 660.45 | § 665.45
§ 660.46 | § 665.46
§ 660.47 | § 665.47
§ 660.48 | § 665.48
§ 660.49 | § 665.49
§ 660.50 | § 665.50
§ 660.51 | § 665.51
§ 660.52 | § 665.52
§ 660.53 | § 665.53
§ 660.54 | § 665.54
Subpart E | Subpart E
§ 660.61 | § 665.61
§ 660.62 | § 665.62
§ 660.63 | § 665.63
§ 660.64 | § 665.64
§ 660.65 | § 665.65
§ 660.66 | § 665.66
§ 660.67 | § 665.67
§ 660.68 | § 665.68
§ 660.69 | § 665.69
Subpart F | Subpart F
§ 660.81 | § 665.81
§ 660.82 | § 665.82
§ 660.83 | § 665.83
§ 660.84 | § 665.84
§ 660.85 | § 665.85
§ 660.86 | § 665.86
§ 660.87 | § 665.87
§ 660.88 | § 665.88
§ 660.89 | § 665.89
Subpart J | Subpart G
§ 660.601 | § 665.601
§ 660.602 | § 665.602
§ 660.603 | § 665.603
§ 660.604 | § 665.604
§ 660.605 | § 665.605
§ 660.606 | § 665.606
§ 660.607 | § 665.607
§ 660.608 | § 665.608
§ 660.609 | § 665.609

7. Revise § 660.1(a) and 660.3 to read as follows:

* * * * *

§ 660.1 Purpose and scope.

(a) The regulations in this part govern fishing for West Coast fishery management unit species by vessels of the United States that operate or are based inside the outer boundary of the EEZ off West Coast States.

* * * * *

§ 660.3 Reporting and recordkeeping.

Any person who is required to do so by applicable state law or regulation must make and/or file all reports of management unit species landings containing all data and in the exact manner required by applicable state law or regulation.

* * * * *

8. Redesignate Table 1 to part 660 as Table 1 to part 665, and revise the title to read as follows:

Table 1 to Part 665—Quotas for Precious Corals Permit Areas

9. Redesignate Table 3 to part 660 as Table 2 to part 665, and revise the title to read as follows:

Table 2 to Part 665—Currently Harvested Coral Reef Taxa

10. Redesignate Table 4 to part 660 as Table 3 to part 665, and revise the title to read as follows:

Table 3 to Part 665—Potentially Harvested Coral Reef Taxa

11. Redesignate Figure 1 to part 660 as Figure 1 to part 665, and revise the title to read as follows:

Figure 1 to Part 665—Carapace Length of Lobsters

12. Redesignate Figure 2 to part 660 as Figure 2 to part 665, and revise the title to read as follows:

Figure 2 to Part 665—Length of Fishing Vessel

PART 665—[AMENDED]

13. In newly redesignated § 665.11 through 665.89, and in newly redesignated § 665.601 through 665.609, remove “part 660.” and add “part 665.” wherever it appears.

14. In newly redesignated § 665.11, paragraphs (b) and (c), in § 665.13, paragraphs (a), (c), and (g), and in § 665.14, paragraphs (f) and (g), remove “J” and add “G.”

15. In newly redesignated § 665.12, remove “subparts B through F and subpart J” and add “subparts B through G.”

16. In newly redesignated § 665.13, paragraphs (f) and (i), remove “PIAO” and add “PIRO.”

17. In newly redesignated § 665.41, paragraphs (c) and (e)(2), remove “Pacific Area Office” and add “Pacific Islands Regional Office.”

18. In newly redesignated § 665.41, paragraphs (g)(1), (g)(2)(i), and (g)(2)(ii), remove “Regional Director” and add “Regional Administrator.”

19. In newly redesignated § 665.12, in the definition of “Pacific Islands Regional Office,” remove “(808) 973-2937” and add “(808) 944-2200.”

20. In newly redesignated § 665.28, paragraph (i)(2)(ii), remove “Southwest Region” and add “Pacific Islands Region.”

[FR Doc. 06-3325 Filed 4-7-06; 8:45 am]

BILLING CODE 3510-22-P